SECURITIES AND EXCHANGE COMMISSION

17 CFR Part 249

Forms, Securities Exchange Act of 1934

CFR Correction

In Title 17 of the Code of Federal Regulations, parts 240 to end, revised as of April 1, 2001, on page 514, part 249 is corrected by removing § 249.1a.

[FR Doc. C1-55521 Filed 7-12-01; 8:45 am]

BILLING CODE 1505-01-D